DEPARTMENT OF ENERGY

Federal Energy Regulatory Commission

Combined Notice of Filings #1

Take notice that the Commission received the following exempt wholesale generator filings:

Docket Numbers: EG13-5-000.

Applicants: Blue Creek Wind Farm LLC.

Description: Self-Certification of EWG of Blue Creek Wind Farm LLC.

Filed Date: 10/17/12.

Accession Number: 20121017-5087.

Comments Due: 5 p.m. ET 11/7/12.

Take notice that the Commission received the following electric rate filings:

Docket Numbers: ER11-1933-002; ER10-2441-002.

Applicants: Green Mountain Power Corporation, Central Vermont Public Service Corporation.

Description: Green Mountain Power Corporation and Central Vermont Public Service Corporation submits Second Supplement to Notice of Material Change in Status.

Filed Date: 10/11/12.

Accession Number: 20121011-5067.

Comments Due: 5 p.m. ET 11/1/12.

Docket Numbers: ER12-2642-002.

Applicants: North Eastern States, Inc.

Description: Baseline Amendment Filing to be effective 12/1/2012.

Filed Date: 10/18/12.

Accession Number: 20121018-5052.

Comments Due: 5 p.m. ET 11/8/12.

Docket Numbers: ER13-8-001.

Applicants: Hermiston Generating Company, L.P.

Description: Compliance to filing 1 to be effective 10/3/2012.

Filed Date: 10/18/12.

Accession Number: 20121018-5001.

Comments Due: 5 p.m. ET 11/8/12.

Docket Numbers: ER13-151-000.

Applicants: Duke Energy Carolinas, LLC.

Description: Depreciation Filing to be effective 4/1/2012.

Filed Date: 10/17/12.

Accession Number: 20121017-5000.

Comments Due: 5 p.m. ET 11/7/12.

Docket Numbers: ER13-152-000.

Applicants: PJM Interconnection, L.L.C.

Description: Original Service Agreement No. 3408; Queue No. X3-002 to be effective 10/5/2012.

Filed Date: 10/17/12.

Accession Number: 20121017-5018.

Comments Due: 5 p.m. ET 11/7/12.

Docket Numbers: ER13-153-000.

Applicants: Michigan Electric Transmission Company, LLC.

Description: Certificate of Concurrence for Gaylord-Livingston IFA to be effective 10/5/2012.

Filed Date: 10/17/12.

Accession Number: 20121017-5038.

Comments Due: 5 p.m. ET 11/7/12.

Docket Numbers: ER13-154-000.

Applicants: Northern States Power Company, a Minnesota corporation.

Description: Northern States Power Company, a Minnesota corporation submits a Notice of Cancellation of the Municipal Transmission Agreement with City of Blue Earth, MN.

Filed Date: 10/17/12.

Accession Number: 20121017-5101.

Comments Due: 5 p.m. ET 11/7/12.

Docket Numbers: ER13-155-000.

Applicants: Duke Energy Carolinas, LLC.

Description: Duke Energy Carolinas, LLC submits Notice of Cancellation of Rate Schedules with North Carolina Municipal Power Agency No. 1.

Filed Date: 10/18/12.

Accession Number: 20121018-5043.

Comments Due: 5 p.m. ET 11/8/12.

Docket Numbers: ER13-156-000.

Applicants: Duke Energy Carolinas, LLC.

Description: Amendment to Rate Schedule 318—Amended 2012 Confirmation to be effective 7/3/2012.

Filed Date: 10/18/12.

Accession Number: 20121018-5055.

Comments Due: 5 p.m. ET 11/8/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2012.
Nathaniel J. Davis, Sr.,
Deputy Secretary.

[FR Doc. 2012-26270 Filed 10-24-12; 8:45 am]

BILLING CODE 6717-01-P